NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: November 18, 2004; 1 p.m. to 5:30 p.m. (EST). November 19, 2004; 8 a.m. to 12:15 p.m. (EST).

Place: National Science Foundation, 4201 Wilson Boulevard, Room 1235, Arlington, VA.

Type of Meeting: Open.

Contact Person: Mary Ann Birchett, National Science Foundation, 4201 Wilson Boulevard, Arlington, VA 22230 (703) 292-8100.

Purposes of Meeting: To provide advice concerning issues related to the oversight, integrity, development and enhancement of NSF's business operations.

Agenda:

November 18, 2004

P.M.: Welcome and introduction of new members; updates—Office of Budget, Finance, and Award Management, Office of Information and Resource Management, Chief Information Officer activities. Presentation and discussion—Large Facilities: Forming a Subcommittee; update on Business Analysis.

November 19, 2004

A.M.: Presentation and discussion—eGovernment at NSF; Federal Initiatives in eGovernment; meeting with NSF Acting Director; committee discussion; planning for next meeting; feedback; other business.

Dated: October 19, 2004.
Susanne Bolton,
Committee Management Officer.

[FR Doc. 04-23819 Filed 10-22-04; 8:45 am]

BILLING CODE 7555-01-M